ELECTION ASSISTANCE COMMISSION

Procedural Manual for the Election Assistance Commission's Voting System Testing and Certification Program, Version 2.0

AGENCY: United States Election Assistance Commission (EAC).

ACTION: Notice; publication of Voting System Testing and Certification Manual, Version 2.0, for 60 day public comment period on EAC Web site.

SUMMARY: The U.S. Election Assistance Commission (EAC) is publishing a procedural manual for its Voting System Testing and Certification Program. This manual sets the administrative procedures for obtaining an EAC Certification for voting systems. Participation in the program is strictly voluntary. The program is mandated by the Help America Vote Act (HAVA) at 42 U.S.C. 15371.

DATES: Submit written or electronic comments on this draft procedural manual on or before 5 p.m. EDT on January 31, 2011.

ADDRESSES: Submit comments via e-mail to VotingSystemGuidelines@eac.gov; via mail to Brian Hancock, Director of Voting System Certification, U.S. Election Assistance Commission, 1201 New York Avenue, Suite 300, Washington, DC 20005; or via fax to 202-566-1392. An electronic copy of the proposed manual may be found on the EAC's Web site, http://www.eac.gov/open/comment.aspx.

FOR FURTHER INFORMATION CONTACT: Brian Hancock, Director, Voting System Certification, Washington, DC (202) 566-3100, Fax: (202) 566-1392.

SUPPLEMENTARY INFORMATION: Background. HAVA requires that the EAC certify and decertify voting systems. Section 231(a)(1) of HAVA (42 U.S.C. 15371) specifically requires the EAC to “* * * provide for the testing, certification, decertification and recertification of voting system hardware and software by accredited laboratories.” To meet this obligation, the EAC has created a voluntary program to test voting systems to Federal voting system standards. The Voting System Testing and Certification Manual, published below, will set the procedures for this program.

In creating the Certification Manual in 2006 the EAC sought input from experts and stakeholders. Specifically, the EAC conducted meetings with representatives from the voting system test laboratory and voting system manufacturing community. The Commission also held a public hearing in which it received testimony from State election officials, the National Institute of Standards and Technology, academics, electronic voting system experts and public interest groups. Finally, the EAC sought input from the public.

EAC is required to resubmit the Testing and Certification Manual for renewal in accordance with Paperwork Reduction Act of 1995 requirements. The Testing and Certification Division has updated sections of the manual to reflect proposed changes in certification procedures. These sections are highlighted for ease of review.

Comments. Please submit comments consistent with the information below. Comments should identify and cite the section of the manual at issue. Where a substantive issue is raised, please propose a recommended change or alternative policy.

This notice is published in accordance with the Paperwork Reduction Act of 1995, to request comments regarding the burden of responding to the information collection activities of the proposed manual; please refer to the EAC's Web site, http://www.eac.gov, for further information about the submission of comments regarding burden.

Alice Miller,
Chief Operating Officer, U.S. Election Assistance Commission.

[FR Doc. 2010-30101 Filed 11-29-10; 8:45 am]

BILLING CODE 6820-KF-P